DEPARTMENT OF JUSTICE

Office of Juvenile Justice and Delinquency Prevention

[OJP(OJJDP)-1315F]

Fiscal Year 2001 Missing and Exploited Children's Program Plan

AGENCY: Office of Justice Programs, Office of Juvenile Justice and Delinquency Prevention, Justice.

ACTION: Announcement of Fiscal Year 2001 Missing and Exploited Children's Program Plan.

SUMMARY: Notice is hereby given that the Office of Juvenile Justice and Delinquency Prevention (OJJDP) is issuing its Missing and Exploited Children's Program Final Program Plan for Fiscal Year 2001.

FOR FURTHER INFORMATION CONTACT: Ronald C. Laney, Director, Missing and Exploited Children's Program, 202-616-3637. (This is not a toll-free number.)

SUPPLEMENTARY INFORMATION: On May 15, 2001, at 66 FR 26881, OJJDP published the Fiscal Year 2001 Missing and Exploited Children's Program Proposed Program Plan and requested public comments on the plan. The closing date for comments was July 16, 2001. No comments were received.

OJJDP has determined that the Proposed Program Plan does not need to be modified in any way. Accordingly, the Proposed Plan as published in the May 15, 2001, Federal Register is now the Final Missing and Exploited Children's Program Plan for Fiscal Year 2001.

Dated: August 16, 2001.
John J. Wilson,
Acting Administrator, Office of Juvenile Justice and Delinquency Prevention.

[FR Doc. 01-21124 Filed 8-21-01; 8:45 am]

BILLING CODE 4410-18-P